FEDERAL COMMUNICATIONS COMMISSION

47 CFR Part 64

[CG Docket No. 17-59, FCC 18-177; FRS 17376]

Advanced Methods To Target and Eliminate Unlawful Robocalls

AGENCY: Federal Communications Commission.

ACTION: Final rule; announcement of compliance date.

SUMMARY: In this document, the Commission announces that compliance with the rule for reporting information about the most recent date of permanent disconnection to the Reassigned Numbers Database per the 2018 Second Report and Order, published on March 26, 2019, is now required.

DATES: Compliance with 47 CFR 64.1200(l)(2), published at 84 FR 11226, March 26, 2019, is required as of March 10, 2021.

FOR FURTHER INFORMATION CONTACT: Karen Schroeder of the Consumer and Governmental Affairs Bureau, Consumer Policy Division, at (202) 418-0654 or Karen.Schroeder@fcc.gov.

SUPPLEMENTARY INFORMATION: This document announces that OMB approved the information collection requirement in § 64.1200(l)(2) on June 2, 2020.

The Commission publishes this document as an announcement of the compliance date of the rule.

The Commission previously announced that compliance with the rules for aging numbers and maintaining records of the most recent date of permanent disconnection was required as of July 27, 2020, published at 85 FR 38334, June 26, 2020.

To request materials in accessible formats for people with disabilities (braille, large print, electronic files, audio format), send an email to fcc504@fcc.gov or call the Consumer and Governmental Affairs Bureau at (202) 418-0530 (voice).

Federal Communications Commission.
Marlene Dortch,
Secretary, Office of the Secretary.

Editorial Note: This document was received for publication by the Office of the Federal Register on January 14, 2021.

[FR Doc. 2021-01299 Filed 2-5-21; 8:45 am]

BILLING CODE 6712-01-P